DEPARTMENT OF COMMERCE

National Oceanic and Atmospheric Administration

RIN 0648-XA018

Eastern North Pacific Gray Whale; Notice of Extension of Public Comment Period on Marine Mammal Protection Act Petition

AGENCY: National Marine Fisheries Service, National Oceanic and Atmospheric Administration, Commerce.

ACTION: Notification of availability; extension of public comment period.

SUMMARY: On November 9, 2010, NMFS announced receipt of a petition to designate the Eastern North Pacific population of gray whales (Eschrichtius robustus) as a depleted stock under the Marine Mammal Protection Act (MMPA) and solicited comments on the petition. NMFS is extending the public comment period on the petition until December 8, 2010.

DATES: Comments must be received by close of business on December 8, 2010.

ADDRESSES: A copy of the petition may be requested from Chief, Marine Mammal and Sea Turtle Conservation Division, Office of Protected Resources, National Marine Fisheries Service, 1315 East-West Highway, Silver Spring, MD 20910.

You may submit comments, identified by 0648-XA018, by any one of the following methods:

• Electronic Submissions: Submit all electronic public comments via the Federal eRulemaking Portal http://www.regulations.gov.

• Fax: 301-713-0376, Attn: Chief, Marine Mammal and Sea Turtle Conservation Division.

• Mail: Chief, Marine Mammal and Sea Turtle Conservation Division, Office of Protected Resources, National Marine Fisheries Service, 1315 East-West Highway, Silver Spring, MD 20910.

Instructions: No comments will be posted for public viewing until after the comment period has closed. All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Dr. Shannon Bettridge or Dr. Gregory Silber, Office of Protected Resources, Silver Spring, MD, (301) 713-2322.

SUPPLEMENTARY INFORMATION:

Electronic Access

Interested persons may obtain the petition for review on the Internet at the following address: http://www.nmfs.noaa.gov/pr/ or by contacting Dr. Shannon Bettridge or Dr. Gregory Silber (see FOR FURTHER INFORMATION CONTACT).

The 2008 stock assessment report for Eastern North Pacific gray whales is available on the Internet at the following address: http://www.nmfs.noaa.gov/pr/pdfs/sars/ak2008whgr-en.pdf. The Draft 2010 stock assessment report for Eastern North Pacific gray whales is available on the Internet at the following address: http://www.nmfs.noaa.gov/pr/pdfs/sars/ak2010_draft.pdf.

Background

The MMPA provides for interested parties to submit a petition to designate a population stock of marine mammals as depleted. Section 115(a)(3) of the MMPA (16 U.S.C. 1383b(a)(3)) requires NMFS to publish a notice in the Federal Register that such a petition has been received and is available for public review. Within 60 days of receiving a petition, NMFS must publish a finding in the Federal Register as to whether the petition presents substantial information indicating that the petitioned action may be warranted.

On November 9, 2010, NMFS published a notice announcing receipt of a petition to designate the Eastern North Pacific population of gray whales (Eschrichtius robustus) as a depleted stock under the Marine Mammal Protection Act (MMPA) and solicited comments on the petition (75 FR 68756). That Federal Register notice began NMFS' 15-day public comment period ending on November 24, 2010. NMFS received the petition on October 21, 2010, and therefore must publish its 60-day finding no later than December 20, 2010.

NMFS subsequently received a request by the petitioners, the California Gray Whale Coalition, to extend the public comment period by 15 days to provide interested parties additional time to review the petition, compile additional materials, and prepare comments for submission to the agency. Since then, NMFS has received other requests to extend the public comment period. In this notice NMFS is extending the public comment period until December 8, 2010, to allow adequate time for the public to review and comment on the petition while allowing the agency sufficient time to thoughtfully consider public comments. To provide a more extended public comment period would preclude NMFS from meeting its statutory requirements under the MMPA to provide a determination within 60 days.

Dated: November 16, 2010.
David Cottingham,
Chief, Marine Mammal and Sea Turtle Conservation Division, Office of Protected Resources, National Marine Fisheries Service.

[FR Doc. 2010-29259 Filed 11-18-10; 8:45 am]

BILLING CODE 3510-22-P